DEPARTMENT OF TRANSPORTATION

[Docket Number: DOT-OST-2017-0043]

Office of the Assistant Secretary for Research and Technology (OST-R); Agency Information Collection Activity; Notice of Reinstatement To Collect Information: Barrier Failure Reporting in Oil and Gas Operations on the Outer Continental Shelf; OMB Number Correction

AGENCY: Bureau of Transportation Statistics (BTS), Office of the Assistant Secretary for Research Technology (OST-R), U.S. Department of Transportation.

ACTION: 30-Day notice/revised.

SUMMARY: The U.S. Department of Transportation (U.S. DOT) BTS published a 30-day comment period notice in the Federal Register Notice (82 FR 56116) on November 27, 2017 and a 60-day comment period Notice 82 FR 15787 on March 30, 2017. The notices were published using the wrong Office of Management and Budget (OMB) Number, 2139-0046. The correct OMB Number is 2138-0046. Therefore, BTS is reissuing the 30-day notice and extending the comment period accordingly. Comments submitted during the first notice will be considered.

DATES: Comments must be received by March 23, 2018.

ADDRESSES: This notice announces the intention of the BTS to request the OMB to reinstate OMB Number 2138-0046. BTS seeks public comments on its proposed reinstatement of information collection. Comments should address whether the information will have practical utility; the accuracy of the estimated burden hours of the proposed information collection; ways to enhance the quality, utility and clarity of the information to be collected; and ways to minimize the burden of the collection of information on respondents, including the use of automated collection techniques or other forms of information technology. Send comments to the Office of Information and Regulatory Affairs, Office of Management and Budget, 725 17th Street NW, Washington, DC 20503, Attention: BTS Desk Officer.

FOR FURTHER INFORMATION CONTACT: Demetra V. Collia, Bureau of Transportation Statistics, Office of the Assistant Secretary for Research and Technology (OST-R), U.S. Department of Transportation, Office of Statistical and Economic Analysis (OSEA), RTS-31, E36-302, 1200 New Jersey Avenue SE, Washington, DC 20590-0001; Phone No. (202) 366-1610; Fax No. (202) 366-3383; email: demetra.collia@dot.gov. Office hours are from 8:30 a.m. to 5 p.m., EST, Monday through Friday, except Federal holidays.

Data Confidentiality Provisions: This data collection is protected under the BTS confidentiality statute (49 U.S.C. 6307(b)) and the Confidential Information Protection and Statistical Efficiency Act (CIPSEA) of 2002 (Pub. L. 107-347, Title V). In accordance with these confidentiality statutes, only statistical and non-identifying data will be made publicly available through reports. Further, BTS will not release to Bureau of Safety and Environment Enforcement (BSEE) or any other public or private entity any information that might reveal the identity of individuals or organizations mentioned in SafeOCS reports.

SUPPLEMENTARY INFORMATION:

I. The Data Collection

The Paperwork Reduction Act of 1995 (44 U.S.C. Chapter 35; as amended) and 5 CFR part 1320 require each Federal agency to obtain OMB approval to continue an information collection activity. BTS is seeking OMB approval for the following BTS information collection activity:

Title: Barrier Failure Reporting in Oil and Gas Operations on the Outer Continental Shelf.

OMB Control Number: 2138-0046.

Type of Review: Approval of data collection.

Respondents: Oil and Gas Operators on the Outer Continental Shelf.

Number of Respondents: As a request to be authorized repository for previously collected information, BTS has identified BSEE as the sole respondent reporting to BTS at the annual frequency of one.

Estimated Time per Response: 60 minutes.

Frequency: Once.

Total Annual Burden: 1 hour.

BTS has agreed through a Memorandum of Understanding (MOU) with BSEE to undertake the information collection identified in the previously approved BSEE notice for OMB Control Number(s) 1014-0028, expiration 4/30/2019 and the BSEE notice with OMB Control Number 1014-0003, expiration 8/31/2019, to ensure the confidentiality of submissions under CIPSEA. The information collection is limited to the establishment of BTS as an authorized repository. This information collection request does not create any additional burden for respondents.

II. Public Participation and Request for Public Comments

On November 27, 2017, the DOT published a 30-day comment period notice in the Federal Register (82 FR 56116) seeking comment to reinstate previously approved information collection entitled “Barrier Failure Reporting in Oil and Gas Operations on the Outer Continental Shelf.” On March 30, 2017, BTS published a notice (82 FR 15787) encouraging interested parties to submit comments to docket number DOT-OST-2017-0043 and allowing for a 60-day comment period. DOT published both the 30 and 60-day notices using the wrong OMB Number, 2139-0046. The correct OMB Number is 2138-0046. Therefore, BTS is reissuing the 30-day notice and extending the comment period accordingly. Comments submitted during the first notice will be considered. To view comments, go to http://www.regulations.gov and insert the docket number, “DOT-OST-2017-0043” in the “Search” box and click “Search.” Next, click “Open Docket Folder” button and choose document listed to review. If you do not have access to the internet, you may view the docket by visiting the Docket Management Facility in Room W12-140 on the ground floor of the U.S. DOT West Building, 1200 New Jersey Avenue SE, Washington, DC 20590, between 9 a.m. and 5 p.m. Monday through Friday, except Federal holidays.

Privacy Act

All comments the BTS received were posted without change to http://www.regulations.gov. Anyone may search the electronic form of all comments received into any of our dockets by the name of the individual submitting the comment (or of the person signing the comment, if submitted on behalf of an association, business, labor union, etc.). You may review DOT's complete Privacy Act Statement in the Federal Register published on January 17, 2008 (73 FR 3316), or you may visit https://www.gpo.gov/fdsys/pkg/FR-2017-03-30/pdf/2017-06272.pdf.

III. Discussion of Public Comments and BTS Responses

BTS announced on March 30, 2017 in a Federal Register Notice (82 FR 15788) its intention to request that OMB approve the following continuation of information collection: Barrier Failure Reporting in Oil and Gas Operations on the Outer Continental Shelf. BTS received no comments during the 60-day public comment period. The March 30th notice stated that the BTS was seeking to renew the previously approved collection. The 60-day notice referenced the wrong OMB Number, the correct number is 2138-0046. On November 27, 2017, the DOT published a 30-day comment period notice in the Federal Register (82 FR 56116) seeking comment to reinstate previously approved information collection entitled “Barrier Failure Reporting in Oil and Gas Operations on the Outer Continental Shelf,” also referencing the wrong OMB Number. Comments submitted in response to the November 27, 2017 notice will be considered along with comments to this notice.

The 30-day notice clarifies that BTS is seeking reinstatement of the expired collection and is requesting OMB authorize the collection for three years. DOT is issuing a revised notice with the correct OMB Number and extending the comment period 30 days from the publication of the corrected notice.

Issued on: February 14, 2018.
Patricia Hu,
Director, Bureau of Transportation Statistics, Office of the Assistant Secretary for Research and Technology.

[FR Doc. 2018-03508 Filed 2-20-18; 8:45 am]

BILLING CODE 4910-P